Proclamation 7439 of May 16, 2001

National Defense Transportation Day and National

Transportation Week, 2001

By the President of the United States of America

A Proclamation

America's achievements in transportation have helped lay the foundation for our strength and prosperity. As our Nation moves forward into the 21st century, we celebrate how modern transportation has transformed the world and recognize the many men and women who have contributed to its development and advancement.

Whether traveling by road, rail, water, or air, Americans can choose among a large number of options in reaching their destinations. But beyond moving people, our diverse transportation system also makes possible the delivery of countless products throughout the country. Whether intended for individuals, private organizations, government agencies, or merchants, the shipment and transfer of these goods helps to generate and sustain the economic growth that benefits us all.

Our transportation system also contributes vitally to the security of the United States. From the early days of the merchant marine at the time of our Nation's founding, to the latest in 21st century aircraft, our diverse methods of transportation have moved troops and carried defense cargo quickly and efficiently both in peacetime and in war.

To meet America's future needs, our Nation must take advantage of scientific and technological innovation to improve existing transportation systems and develop new ones. We must strive to enhance their reliability and efficiency and close the gap between the demand for transportation and the capacity of the transportation infrastructure.

At the same time, safety will always remain our top priority. Investments in transportation must contribute to the security of the traveling public and improve access for all Americans. Our efforts to modify and strengthen transportation systems must also safeguard the environment and use energy wisely. Through these measures, we can conserve our precious natural resources and reinforce the transportation infrastructure our Nation needs to thrive in a dynamic and competitive world.

To recognize the men and women who work in transportation and thereby contribute to our Nation's well-being, defense, and progress, the United States Congress, by joint resolution approved May 16, 1957 (36 U.S.C. 120) has designated the third Friday in May of each year as “National Defense Transportation Day,” and, by joint resolution approved May 14, 1962 (36 U.S.C. 133), declared that the week during which that Friday falls be designated “National Transportation Week.”

NOW, THEREFORE, I, GEORGE W. BUSH, President of the United States of America, do hereby proclaim Friday, May 18, 2001, as National Defense Transportation Day and May 13 through May 19, 2001, as National Transportation Week. I urge all Americans to recognize how our modern transportation system has enhanced our economy and contributed to our quality of life.

IN WITNESS WHEREOF, I have hereunto set my hand this sixteenth day of May, in the year of our Lord two thousand one, and of the Independence of the United States of America the two hundred and twenty-fifth.

B

[FR Doc. 01-12967

Filed 5-18-01; 8:45 am]

Billing code 3195-01-P